DEPARTMENT OF THE INTERIOR

Bureau of Land Management

[CO-200-0777-XZ-241A]

Call for a Nomination for Front Range Colorado Resource Advisory Council

AGENCY: Bureau of Land Management, Interior.

ACTION: Notice of Resource Advisory Council Call for a Nomination on Colorado's Front Range.

SUMMARY: The purpose of this notice is to request a public nomination for the Bureau of Land Management (BLM) Front Range Resource Advisory Council (RAC) specifically in “group 3,” for the Elected Official Position. The RAC provides advice and recommendations to BLM on land use planning and management of the public lands along the Front Range of Colorado. The BLM will consider public nominations for 30 days after the publication date of this notice.

DATES: Send all nomination materials to the address below no later than June 27, 2008.

Address/Contact: Front Range RAC John Dow, Royal Gorge Field Office, BLM, 3028 E. Main St., Canon City, Colorado 81212 (719) 269-8559.

SUPPLEMENTARY INFORMATION: The Federal Land Policy and Management Act (FLPMA) (43 U.S.C. 1730) directs the Secretary of the Interior to involve the public in planning and issues related to management of lands administered by BLM. Section 309 of FLPMA directs the Secretary to select 10 to 15 member citizen-based advisory councils that are consistent with the requirements of the Federal Advisory Committee Act (FACA). As required by the FACA, RAC membership must be balanced and representative of the various interests concerned with the management of the public lands. The rules governing RACs are found at 43 CFR 1784.b. Individuals may nominate themselves or others. Nominees must be residents of the State or States in which the RAC has jurisdiction. The BLM will evaluate the nominee based on their education, training, and experience and their knowledge of the geographical area of the RAC. The nominee should demonstrate a commitment to collaborative resource decisionmaking. The following must accompany all nominations:

—Letters of reference from represented interests or organizations,

—A completed background information nomination form,

—Any other information that speaks to the nominee's qualifications.

Simultaneous with this notice, the BLM Canon City Field Office will issue a press release providing additional information for submitting nominations.

Dated: May 19, 2008.
Roy L. Masinton,
Field Manager, Royal Gorge Field Office.

[FR Doc. E8-11745 Filed 5-23-08; 8:45 am]

BILLING CODE 4310-JB-P